DEPARTMENT OF ENERGY

Federal Energy Regulatory Commission

Combined Notice of Filings #1

Take notice that the Commission received the following electric corporate filings:

Docket Numbers: EC15-81-000.

Applicants: NGP Blue Mountain I LLC.

Description: Application of NGP Blue Mountain I LLC for authorization under Section 203 of the FPA for disposition of jurisdictional facilities and request for expedited treatment.

Filed Date: 3/2/15.

Accession Number: 20150302-5391.

Comments Due: 5 p.m. ET 3/23/15.

Take notice that the Commission received the following exempt wholesale generator filings:

Docket Numbers: EG15-60-000.

Applicants: Solar Star Colorado III, LLC.

Description: Notice of Self-Certification of Exempt Wholesale Generator Status of Solar Star Colorado III, LLC.

Filed Date: 3/2/15.

Accession Number: 20150302-5379.

Comments Due: 5 p.m. ET 3/23/15.

Take notice that the Commission received the following electric rate filings:

Docket Numbers: ER10-2331-027; ER14-630-004; ER10-2319-020; ER10-2317-020; ER10-2326-026; ER14-1468-004; ER13-1351-002; ER10-2330-026.

Applicants: J.P. Morgan Ventures Energy Corporation, AlphaGen Power LLC, BE Alabama LLC, BE CA LLC, Cedar Brakes I, L.L.C., KMC Thermo, LLC, Florida Power Development LLC, Utility Contract Funding, L.L.C.

Description: Supplement to December 3, 2014 Non-Material Change in Status of the J.P. Morgan Sellers.

Filed Date: 2/3/15.

Accession Number: 20150203-5157.

Comments Due: 5 p.m. ET 3/24/15.

Docket Numbers: ER13-1605-005.

Applicants: NV Energy, Inc.

Description: eTariff filing per 35.19a(b): NVE Refund Report 030315 to be effective N/A.

Filed Date: 3/3/15.

Accession Number: 20150303-5091.

Comments Due: 5 p.m. ET 3/24/15.

Docket Numbers: ER15-694-001.

Applicants: Northern Indiana Public Service Company.

Description: Compliance filing per 35: Compliance Filing to be effective12/23/2014.

Filed Date: 3/2/15.

Accession Number: 20150302-5309.

Comments Due: 5 p.m. ET 3/23/15.

Docket Numbers: ER15-928-001.

Applicants: Northern Indiana Public Service Company.

Description: Tariff Amendment per 35.17(b): Amendment to Pending CIAC Agreement Filing to be effective1/30/2015.

Filed Date: 3/2/15.

Accession Number: 20150302-5316.

Comments Due: 5 p.m. ET 3/23/15.

Docket Numbers: ER15-996-001.

Applicants: Verso Androscoggin Power LLC.

Description: Compliance filing per 35: Amendment to Filing to be effective4/6/2015.

Filed Date: 3/2/15.

Accession Number: 20150302-5341.

Comments Due: 5 p.m. ET 3/23/15.

Docket Numbers: ER15-997-001.

Applicants: Verso Maine Energy LLC.

Description: Compliance filing per 35: Amendment to Filing to be effective4/6/2015.

Filed Date: 3/2/15.

Accession Number: 20150302-5346.

Comments Due: 5 p.m. ET 3/23/15.

Docket Numbers: ER15-1000-001.

Applicants: NewPage Energy Services, LLC.

Description: Compliance filing per 35: NewPage Energy Amendment to be effective 4/7/2015.

Filed Date: 3/2/15.

Accession Number: 20150302-5310.

Comments Due: 5 p.m. ET 3/23/15.

Docket Numbers: ER15-1005-001.

Applicants: Consolidated Water Power Company.

Description: Compliance filing per 35: Amendment to Filing to be effective4/7/2015.

Filed Date: 3/2/15.

Accession Number: 20150302-5349.

Comments Due: 5 p.m. ET 3/23/15.

Docket Numbers: ER15-1007-001.

Applicants: Escanaba Paper Company.

Description: Compliance filing per 35: Escanaba Amendment to be effective4/7/2015.

Filed Date: 3/2/15.

Accession Number: 20150302-5329.

Comments Due: 5 p.m. ET 3/23/15.

Docket Numbers: ER15-1020-000.

Applicants: Rising Tree Wind Farm III LLC.

Description: Supplement to February 10, 2015 Rising Tree Wind Farm III LLC tariff filing.

Filed Date: 2/27/15.

Accession Number: 20150227-5597.

Comments Due: 5 p.m. ET 3/20/15.

Docket Numbers: ER15-1150-000.

Applicants: Milford Wind Corridor Phase II, LLC.

Description: § 205(d) rate filing per 35.13(a)(2)(iii): Market-Based Rate Tariff Revisions to be effective 5/2/2015.

Filed Date: 3/2/15.

Accession Number: 20150302-5324.

Comments Due: 5 p.m. ET 3/23/15.

Docket Numbers: ER15-1151-000.

Applicants: First Wind Energy Marketing, LLC.

Description: § 205(d) rate filing per 35.13(a)(2)(iii): Market-Based Rate Tariff Revisions to be effective 5/2/2015.

Filed Date: 3/2/15.

Accession Number: 20150302-5327.

Comments Due: 5 p.m. ET 3/23/15.

Docket Numbers: ER15-1152-000.

Applicants: Southwest Power Pool, Inc.

Description: § 205(d) rate filing per 35.13(a)(2)(iii): Revisions to the Transtional ARR Allocation Process to be effective 5/1/2015.

Filed Date: 3/2/15.

Accession Number: 20150302-5347.

Comments Due: 5 p.m. ET 3/23/15.

Docket Numbers: ER15-1153-000.

Applicants: Erie Power LLC.

Description: Request for Limited Tariff Waiver and Expedited Review of Erie Power LLC.

Filed Date: 2/27/15.

Accession Number: 20150227-5595.

Comments Due: 5 p.m. ET 3/20/15.

Docket Numbers: ER15-1154-000.

Applicants: Wisconsin Power and Light Company.

Description: § 205(d) rate filing per 35.13(a)(2)(iii): Amended Wisconsin Dells PSA to be effective 2/12/2015.

Filed Date: 3/3/15.

Accession Number: 20150303-5064.

Comments Due: 5 p.m. ET 3/24/15.

Docket Numbers: ER15-1156-000.

Applicants: PJM Interconnection, L.L.C.

Description: § 205(d) rate filing per 35.13(a)(2)(iii): Service Agreement No. 4091; Queue No. Z1-099 to be effective 2/6/2015.

Filed Date: 3/3/15.

Accession Number: 20150303-5117.

Comments Due: 5 p.m. ET 3/24/15.

Docket Numbers: ER15-1157-000.

Applicants: San Diego Gas & Electric Company.

Description: Application for decrease in the Fixed Charge Rate of San Diego Gas & Electric Company.

Filed Date: 2/27/15.

Accession Number: 20150227-5608.

Comments Due: 5 p.m. ET 3/20/15.

Docket Numbers: ER15-1159-000.

Applicants: Midcontinent Independent System Operator, Inc.

Description: § 205(d) rate filing per 35.13(a)(2)(iii): 2015-03-03_SA 2753 NSP-Red Pine Wind GIA (H081) to be effective 3/4/2015.

Filed Date: 3/3/15.

Accession Number: 20150303-5136.

Comments Due: 5 p.m. ET 3/24/15.

Docket Numbers: ER15-1160-000.

Applicants: PJM Interconnection, L.L.C.

Description: Request of PJM Interconnection, L.L.C. For Limited Tariff Waiver.

Filed Date: 3/2/15.

Accession Number: 20150302-5395.

Comments Due: 5 p.m. ET 3/23/15.

Docket Numbers: ER15-1161-000.

Applicants: FTR Energy Services, LLC.

Description: § 205(d) rate filing per 35.13(a)(2)(iii): Everyday Energy, LLC MBR Tariff Update March 3 to be effective 2/2/2015.

Filed Date: 3/3/15.

Accession Number: 20150303-5210.

Comments Due: 5 p.m. ET 3/24/15.

Take notice that the Commission received the following public utility holding company filings:

Docket Numbers: PH15-13-000.

Applicants: Energy Future Holdings Corp.

Description: Energy Future Holdings Corp. submits FERC 65-B Waiver Notification.

Filed Date: 3/2/15.

Accession Number: 20150302-5386.

Comments Due: 5 p.m. ET 3/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2015.
Nathaniel J. Davis, Sr.,
Deputy Secretary.

[FR Doc. 2015-05394 Filed 3-6-15; 8:45 am]

BILLING CODE 6717-01-P